DEPARTMENT OF ENERGY

Federal Energy Regulatory Commission

[Docket No. RP01-510-000]

Columbia Gas Transmission Corporation; Notice of Tariff Filing

August 29, 2001.

Take notice that on August 16, 2001, Columbia Gas Transmission Corporation (Columbia) tendered for filing as part of its FERC Gas Tariff, Second Revised Volume No. 1, the following revised tariff sheet, with a proposed effective date of October 1, 2001:

Third Revised Sheet No. 500B

Columbia states that it is filing NTS Service Agreement No. 71024, OPT Service Agreement No. 71022, and OPT Service Agreement No. 71021, which are agreements for firm transportation service to be provided by Columbia to Virginia Power Services Energy Corp., Inc. (VPSE). While Columbia believes that the VPSE Agreements are largely consistent with Columbia's pro forma Rate Schedule NTS and OPT service agreements, Columbia is filing the VPSE Agreements as non-conforming service agreements within the meaning of Section 154.1(d) of the Commission's Regulations. Columbia requests that the Commission issue an order approving the VPSE Agreements to be effective as of October 1, 2001.

Columbia states that copies of its filing have been mailed to all parties on the official service list in this proceeding.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22224 Filed 9-4-01; 8:45 am]

BILLING CODE 6717-01-P